DEPARTMENT OF TRANSPORTATION

Federal Aviation Administration

14 CFR Part 71

[Docket No. FAA-2008-0308; Airspace Docket No. 08-AEA-19]

Modification of Class E Airspace; Rome, NY

AGENCY: Federal Aviation Administration (FAA), DOT.

ACTION: Final rule.

SUMMARY: This action modifies Class E Airspace at Rome, New York to support the amendment of the current Terminal Visual Flight Rule (VFR) Radar Service Area (TRSA) and to allow for a lower vectoring altitude known as the Minimum Vectoring Altitude (MVA) for vectoring of both VFR and Instrument Flight Rule (IFR) aircraft around the Rome, NY area. This action will enhance the safety and airspace management around the Griffiss Airport area.

DATES: Effective Date: 0901 UTC, November 20, 2008.

FOR FURTHER INFORMATION CONTACT: Daryl Daniels, Airspace Specialist, System Support Group, Eastern Service Center, Air Traffic Organization, Federal Aviation Administration, P.O. Box 20636, Atlanta, Georgia 30320; telephone (404) 305-5581.

SUPPLEMENTARY INFORMATION:

History

On January 1, 2007, the Oneida County Airport, Utica, NY was permanently closed and operations moved to the Griffiss Airfield. The local area Terminal VFR Radar Service Area (TRSA) is being revised and there is a requirement for the base of the TRSA to not be below the associated Class E airspace. A careful analysis of operations determined a need for additional Class E airspace extending upward from 700 feet above the surface of the Earth to enhance the management, safety and efficiency of air traffic services in the area. This modification would satisfy that requirement.

On May 8, 2008, the FAA published in the Federal Register a notice of proposed rulemaking (NPRM) to establish additional Class E airspace at Griffiss Airfield (73 FR 26047). Interested parties were invited to participate in this rulemaking effort by submitting written comments on this proposal to the FAA. No comments objecting to the proposal were received, and the rule is being promulgated as proposed.

Designations for Class E Airspace designations for airspace areas extending upward from 700 feet or more above the surface of the Earth are published in Paragraph 6005 of FAA Order 7400.9R, signed August 15, 2007, and effective September 15, 2007, which is incorporated by reference in 14 CFR 71.1. The Class E airspace designation listed in this document will be published subsequently in the Order.

The Rule

This amendment to part 71 of the Federal Aviation Regulations (14 CFR part 71) modifies Class E airspace at Rome, NY. To provide for a lower MVA in the Rome, NY, area for VFR and IFR operations, it establishes Class E airspace upward from 700 feet above the surface of the Earth within a 15-mile radius of Griffiss Airfield and within a 26-mile radius of the airport to the southeast and south of the airport.

The FAA has determined that this final rule only involves an established body of technical regulations for which frequent and routine amendments are necessary to keep them operationally current. It, therefore, (1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in subtitle VII, part A, subpart I, section 40103. Under that section, the FAA is charged with prescribing regulations to assign the use of airspace necessary to ensure the safety of aircraft and the efficient use of airspace. This regulation is within the scope of that authority as it modifies Class E airspace at Rome, NY.

Lists of Subjects in 14 CFR Part 71

Airspace, Incorporation by reference, Navigation (Air).

Adoption of the Amendment:

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for part 71 will continue to read as follows:

Authority: 49 U.S.C. 106(g); 40103, 40113, 40120; E.O. 10854, 24 FR 9565, 3 CFR, 1959-1963 Comp., p. 389.

§ 71.1 [Amended]

2. The incorporation by reference in 14 CFR 71.1 of Federal Aviation Administration Order 7400.9R, Airspace Designations and Reporting Points, signed August 15, 2007, effective September 15, 2007, is amended as follows:

Paragraph 6005 Class E Airspace Areas Extending Upward from 700 feet or More Above the Surface of the Earth.

* * * * *

AEA NY E5 Rome, NY [REVISED]

Griffiss Airfield, NY

(Lat. 43°14′02″ N., long. 75°24′25″ W.)

That airspace extending upward from 700 feet above the surface of the Earth within a 15-mile radius of Griffiss Airfield and within a 26-mile radius of the airport extending clockwise from a 125° bearing to a 200° bearing from the airport.

* * * * *

Issued in College Park, Georgia, on July 14, 2008.
Mark D. Ward,
Manager, Operations Support Group, Eastern Service Center, Air Traffic Organization.

[FR Doc. E8-18135 Filed 8-8-08; 8:45 am]

BILLING CODE 4910-13-M